DEPARTMENT OF ENERGY

Federal Energy Regulatory Commission

[Docket No. CP15-138-000]

Transcontinental Gas Pipe Line Company, LLC; Notice of Availability of Draft General Conformity Analysis for the Atlantic Sunrise Project

In accordance with the National Environmental Policy Act of 1969, the Clean Air Act, and the Federal Energy Regulatory Commission's (Commission or FERC) regulations, Commission staff has prepared this draft General Conformity Determination (GCD) for the Atlantic Sunrise Project (Project) to assess the potential air quality impacts associated with the construction of natural gas transmission facilities proposed by Transcontinental Gas Pipeline Company, LLC (Transco).

The FERC staff concludes that the Project would achieve conformity in Pennsylvania through the transfer of Emission Reduction Credits. FERC staff will issue a final GCD to address any changes necessary and respond to comments.

The Project would involve the construction and operation of about 199.4 miles of pipeline facilities and appurtenant aboveground facilities, including:

• 185.9 miles of new natural gas pipeline in Columbia, Lancaster, Lebanon, Luzerne, Northumberland, Schuylkill, Susquehanna, and Wyoming Counties, Pennsylvania (58.7 miles of 30-inch-diameter and 127.3 miles of 42-inch-diameter pipeline);

• 11.0 miles of new pipeline looping in Clinton and Lycoming Counties, Pennsylvania (2.5 miles of 36-inch-diameter and 8.5 miles of 42-inch-diameter pipeline);

• 2.5 miles of 30-inch-diameter pipeline replacements in Prince William County, Virginia;

• two new compressor stations in Columbia and Wyoming Counties, Pennsylvania (Compressor Stations 610 and 605);

• additional compression and related modifications to two existing compressor stations in Columbia and Lycoming Counties, Pennsylvania (Compressor Stations 517 and 520) and one in Howard County, Maryland (Compressor Station 190);

• other modifications would be taking place at Compressor Stations 145, 150, 155, 160, 170, 185, and 190 across Maryland, North Carolina, and Virginia;

• two new meter stations and three new regulator stations would be constructed and operated in Pennsylvania. There would also be modifications at an existing meter station, and the construction and operation of additional ancillary facilities would occur in Pennsylvania; and

• in North Carolina and South Carolina, supplemental odorization, odor detection, and/or odor masking/deodorization equipment would be installed at 56 meter stations, regulator stations, and ancillary facilities.

In addition, the full draft GCD is available for public viewing on the FERC's Web site (www.ferc.gov) using the eLibrary link.¹ In addition, a limited number of copies of the draft GCD are available for public inspection at the local libraries in the Project area and at: Federal Energy Regulatory Commission, Public Reference Room, 888 First Street NE., Room 2A, Washington, DC 20426, (202) 502-8371.

¹ https://www.ferc.gov/docs-filing/elibrary.asp.

Any person wishing to comment on the draft GCD may do so. To ensure that your comments are properly recorded and considered prior to issuance of the final GCD, it is important that we receive your comments in Washington, DC, on or before December 5, 2016.

For your convenience, there are three methods you can use to submit your comments to the Commission. In all instances, please reference the docket number (CP15-138-000) with your submission. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) Another way to file your comments electronically is by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address: Kimberly D. Bose, Secretary, Federal Energy Regulatory Commission, 888 First Street NE., Room 1A, Washington, DC 20426.

For further information, contact Eric Tomasi by telephone at 202-502-8097 or by email at Eric.Tomasi@ferc.gov.

Dated: November 3, 2016.
Nathaniel J. Davis, Sr.,
Deputy Secretary.

[FR Doc. 2016-27067 Filed 11-8-16; 8:45 am]

BILLING CODE 6717-01-P